DEPARTMENT OF ENERGY

Federal Energy Regulatory Commission

Combined Notice of Filings #1

Take notice that the Commission received the following electric corporate filings:

Docket Numbers: EC18-137-000.

Applicants: Vermont Transco LLC.

Description: Application for Authorization under Section 203 of the Federal Power Act, et al. of Vermont Transco LLC.

Filed Date: 8/10/18.

Accession Number: 20180810-5105.

Comments Due: 5 p.m. ET 8/31/18.

Docket Numbers: EC18-138-000.

Applicants: Bayonne Energy Center, LLC, NHIP II Bayonne Holdings, LLC, Zone J Tolling Co., LLC.

Description: Joint Application for Authorization under Section 203 of the Federal Power Act, et al. of Bayonne Energy Center, LLC, et. al.

Filed Date: 8/10/18.

Accession Number: 20180810-5169.

Comments Due: 5 p.m. ET 8/31/18.

Take notice that the Commission received the following electric rate filings:

Docket Numbers: ER10-2718-030; ER10-2719-030.

Applicants: Cogen Technologies Linden Venture, L.P., East Coast Power Linden Holding, L.L.C.

Description: Notice of Non-Material Change in Status of Cogen Technologies Linden Venture, L.P.

Filed Date: 8/10/18.

Accession Number: 20180810-5151.

Comments Due: 5 p.m. ET 8/31/18.

Docket Numbers: ER18-1647-001.

Applicants: PJM Interconnection, L.L.C.

Description: Compliance filing: Compliance Filing per Commission's7/13/2018 order re: Lessons Learned Part 2 to be effective 7/16/2018.

Filed Date: 8/13/18.

Accession Number: 20180813-5078.

Comments Due: 5 p.m. ET 9/4/18.

Docket Numbers: ER18-2199-000.

Applicants: San Diego Gas & Electric Company.

Description: § 205(d) Rate Filing: Service Agreement 54 to be effective8/11/2018.

Filed Date: 8/10/18.

Accession Number: 20180810-5147.

Comments Due: 5 p.m. ET 8/31/18.

Docket Numbers: ER18-2200-000.

Applicants: Midcontinent Independent System Operator, Inc.

Description: § 205(d) Rate Filing: 2018-08-10_Termination of SA 3116 ATC-WPL Project Commitment Agreement_Hawk to be effective8/11/2018.

Filed Date: 8/10/18.

Accession Number: 20180810-5165.

Comments Due: 5 p.m. ET 8/31/18.

Docket Numbers: ER18-2201-000.

Applicants: Midcontinent Independent System Operator, Inc.

Description: § 205(d) Rate Filing: 2018-08-10_Termination of SA 3117 ATC-WPL Project Commitment Agreement_Schofield to be effective8/11/2018.

Filed Date: 8/10/18.

Accession Number: 20180810-5167.

Comments Due: 5 p.m. ET 8/31/18.

Docket Numbers: ER18-2202-000.

Applicants: Vermont Transco LLC.

Description: Request for Rate Recovery of Vermont Transco LLC.

Filed Date: 8/10/18.

Accession Number: 20180810-5180.

Comments Due: 5 p.m. ET 8/31/18.

Docket Numbers: ER18-2203-000.

Applicants: Upper Michigan Energy Resources Corporation.

Description: Baseline eTariff Filing: UMERC Filing of Market-Based Rate Tariff to be effective 10/12/2018.

Filed Date: 8/13/18.

Accession Number: 20180813-5050.

Comments Due: 5 p.m. ET 9/4/18.

Docket Numbers: ER18-2204-000.

Applicants: ISO New England Inc.

Description: ISO New England Inc. submits Second Quarter 2018 Capital Budget Report.

Filed Date: 8/10/18.

Accession Number: 20180810-5194.

Comments Due: 5 p.m. ET 8/31/18.

Docket Numbers: ER18-2205-000.

Applicants: Nevada Power Company.

Description: § 205(d) Rate Filing: Rate Schedule No. 136 NPC/APS Mead-Phoenix Project Concurrence to be effective 7/1/2018.

Filed Date: 8/13/18.

Accession Number: 20180813-5118.

Comments Due: 5 p.m. ET 9/4/18.

Docket Numbers: ER18-2206-000.

Applicants: GridLiance West LLC.

Description: § 205(d) Rate Filing: GridLiance West Name Change Filing to be effective 8/13/2018.

Filed Date: 8/13/18.

Accession Number: 20180813-5129.

Comments Due: 5 p.m. ET 9/4/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 13, 2018.
Nathaniel J. Davis, Sr.,
Deputy Secretary.

[FR Doc. 2018-17861 Filed 8-17-18; 8:45 am]

BILLING CODE 6717-01-P